SOCIAL SECURITY ADMINISTRATION

[Docket No. SSA-2012-0026]

Charging Standard Administrative Fees for Nonprogram-Related Information

AGENCY: Social Security Administration.

ACTION: Notice of standard administrative fees for providing information and related services for nonprogram-related purposes; announcing addition to schedule of standardized administrative fees.

SUMMARY: On August 22, 2012,¹ we announced in the Federal Register a schedule of standardized administrative fees we charge to recover the full cost of providing information and related services we provide to the public for nonprogram purposes. We are announcing the addition of a new standard fee to the previously published schedule of standardized administrative fees.

¹ 77 FR 50757, Aug. 22, 2012.

This new standard fee is part of our continuing effort to standardize fees for nonprogram information requests. Standard fees ensure consistency and that we recover the full cost of supplying information when a request is for a purpose not directly related to the administration of a program under the Social Security Act (Act).

SUPPLEMENTARY INFORMATION: Section 1106 of the Act and the Privacy Act ² authorize the Commissioner of Social Security to promulgate regulations regarding agency records and information and to charge fees for providing information and related services. Our regulations and operating instructions identify when we will charge fees for information.³ Under our regulations, whenever we determine a request for information is for any purpose not directly related to the administration of the Social Security programs, we require the requester to pay the full cost of providing the information.

² 42 U.S.C. 1306 and 5 U.S.C. 552a, respectively.

³ See 20 CFR 402.170, 402.175; Program Operations Manual System (POMS) GN 03311.005.

Currently, requesters complete Form SSA-7050, Request for Social Security Earnings Information, to initiate requests for detailed and certified yearly Social Security earnings information. We determine the fee for this information based on the number of years requested. The form includes a fee chart to guide requesters in determining the amount of the fee. The requesters calculate their fee and include payment with the form. The existing process has created inconsistencies and inefficiencies. The form's existing fee schedule does not conform to the standard fee methodology published in the Federal Register on August 22, 2012. Moreover, the fee schedule is outdated and incongruent with the agency's current costs for this service.

New Information: We are establishing a new standard, single-tier fee of $102 for each request of certified yearly totals of Social Security earnings, regardless of the number of earnings years requested. We based this new standard fee on our most recent cost calculations for supplying this information and the standard fee methodology previously published in the Federal Register. Non-certified, yearly earnings totals (Form SSA-7004, Request for a Social Security Statement) are still available as a free online service through mySocialSecurity, http://socialsecurity.gov/myaccount/, a personal online account for Social Security information and services. Social Security Statements display uncertified, yearly earnings and do not show any employer information.

We will evaluate all standard fees at least every two years to ensure we continue to capture the full costs associated with providing information for nonprogram-related purposes. We will require advance payment of the standard fee by check, money order, or credit card. We will not accept cash. If we revise any of the standard fees, we will publish another notice in the Federal Register. For other nonprogram-related requests for information not addressed here or within the current schedule of standardized administrative fees, we will continue to charge fees calculated on a case-by-case basis to recover our full cost of supplying the information. No other changes will apply to the schedule of standardized administrative fees announced in the Federal Register ¹ on August 22, 2012. We will implement the new fee across all of our field offices simultaneously.

Additional Information

Additional information is available on our Web site at http://socialsecurity.gov/pgm/business.htm or by written request to: Social Security Administration, Office of Public Inquiries, Windsor Park Building, 6401 Security Boulevard, Baltimore, MD 21235.

DATES: The standard administrative fee will apply to nonprogram-related requests for information we receive on or after September 18, 2013.

FOR FURTHER INFORMATION CONTACT: Kristina Poist, Social Security Administration, Office of Finance, 6401 Security Boulevard, Baltimore, MD 21235-6401, (410) 597-1977. For information on eligibility or filing for benefits, call our national toll-free number, 1-800-772-1213 or TTY 1-800-325-0778, or visit our Internet site, Social Security Online, at http://socialsecurity.gov.

Dated: September 12, 2013.
Carolyn W. Colvin,
Acting Commissioner of Social Security.

[FR Doc. 2013-22625 Filed 9-17-13; 8:45 am]

BILLING CODE 4191-02-P